DEPARTMENT OF LABOR

Wage and Hour Division

Notice of Approved Agency Information Collection; Information Collection: Employment Information Form

ACTION: Notice.

SUMMARY: In accordance with the Paperwork Reduction Act (PRA), the Wage and Hour Division (WHD) is providing notice to the public that the WHD sponsored information collection request (ICR) titled, “Employment Information Form,” has been approved by the Office of Management and Budget (OMB). WHD is notifying the public that the information collection has been revised and extended effective immediately through November 30, 2022.

DATES: The OMB approval of the revision and extension of this information collection is effective immediately with an expiration date of November 30, 2022.

FOR FURTHER INFORMATION CONTACT: Robert Waterman, Division of Regulations, Legislation, and Interpretations, Wage and Hour, U.S. Department of Labor, Room S-3502, 200 Constitution Avenue NW, Washington, DC 20210; telephone: (202) 693-0406 (this is not a toll-free number) or by sending an email to WHDPRAComments@dol.gov. Copies of this notice may be obtained in alternative formats (Large Print, Braille, Audio Tape or Disc), upon request, by calling (202) 693-0023 (not a toll-free number). TTY/TDD callers may dial toll-free (877) 889-5627 to obtain information or request materials in alternative formats.

SUPPLEMENTARY INFORMATION: The Department of Labor submitted a proposed revision to the information collection titled: Employment Information Form (OMB Control Number 1235-0021), in conjunction with a Notice of Proposed Rulemaking (NPRM). This NPRM proposed updating and revising the regulations issued under the Fair Labor Standards Act implementing the exemptions from minimum wage and overtime pay requirements for executive, administrative, professional, outside sales, and computer employees (RIN 1235-AA20, “Defining and Delimiting the Exemptions for Executive, Administrative, Professional, Outside Sales and Computer Employees).” The NPRM published in the Federal Register on March 22, 2019 (84 FR 10900). OMB asked the Department to resubmit the information collection request upon promulgation of the final rule and after considering public comments on the proposed rule. On September 27, 2019, the Department published the final rule, “Defining and Delimiting the Exemptions for Executive, Administrative, Professional, Outside Sales and Computer Employees” (84 FR 51230), and submitted to OMB for approval a revision to this ICR, “Employment Information Form.” OMB authorization for an ICR cannot be for more than three (3) years without renewal and the approval for this collection was scheduled to expire on December 31, 2019. As a result, the Department submitted the revised burden estimates associated with the final rule and sought to extend PRA authorization for the information collection for three (3) more years. The Department provided notice of the submission of the information collection to OMB in the Federal Register on September 27, 2019 (84 FR 51179).

On November 19, 2019, the OMB issued a Notice of Action approving the revision and extension of this information collection under OMB Control Number 1235-0021. Section (k) of 5 CFR 1320.11, “Clearance of Collections of Information in Proposed Rules” states, “After receipt of notification of OMB's approval, instruction to make a substantive or material change to, disapproval of a collection of information, or failure to act, the agency shall publish a notice in the Federal Register to inform the public of OMB's decision.” This notice fulfills the Department's obligation to notify the public of OMB's approval of the information collection request.

Dated: November 25, 2019.
Amy DeBisschop,
Director, Division of Regulations, Legislation, and Interpretation.

[FR Doc. 2019-26011 Filed 11-29-19; 8:45 am]

BILLING CODE 4510-27-P